DEPARTMENT OF COMMERCE

Foreign-Trade Zones Board

[Order No. 1614]

Termination of Foreign-Trade Subzone 22G; Sanofi-Aventis, Des Plaines, IL

Pursuant to its authority under the Foreign-Trade Zones Act of June 18, 1934, as amended (19 U.S.C. 81a-81u), and the Foreign-Trade Zones Board Regulations (15 CFR Part 400), the Foreign-Trade Zones Board (the Board) adopts the following Order:

Whereas, on July 20, 1994, the Foreign-Trade Zones Board issued a grant of authority to the Illinois International Port District authorizing the establishment of Foreign-Trade Subzone 22G at the Sanofi-Aventis facility, Des Plaines, Illinois (Board Order 700, 59 FR 38431, 07/27/94);

Whereas, the Illinois International Port District has advised the Board that zone procedures are no longer needed at the facility and requested voluntary termination of Subzone 22G (FTZ Docket 39-2008);

Whereas, the request has been reviewed by the FTZ Staff and U.S. Customs and Border Protection officials, and approval has been recommended;

Now, therefore, the Foreign-Trade Zones Board terminates the subzone status of Subzone 22G, effective this date.

Signed at Washington, DC, this 24th day of April, 2009.
Ronald K. Lorentzen,
Acting Assistant Secretary of Commerce for Import Administration, Alternate Chairman, Foreign-Trade Zones Board.
Attest:
Andrew McGilvray,
Executive Secretary.

[FR Doc. E9-10799 Filed 5-7-09; 8:45 am]

BILLING CODE 3510-DS-P